DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Assessment of State Laws, Regulations and Practices Affecting the Collection and Reporting of Racial and Ethnic Data by Health Insurers and Managed Care Plans—NEW—One of the overarching goals of Healthy People 2010 is the elimination of health disparities, including those associated with race and ethnicity. The lack of data has been identified as a barrier to performance measurement for this goal. Therefore, the Office of Minority Health is proposing a study which will examine States' laws and policies concerning the collection and use of racial and ethnic data by health insurers and managed care plans. The study involves visits to 13 States for an in-depth look at their policies and practices, interviews with State officials and representatives of the States' major managed care plans and health insurance industry, and focus groups with consumer and civil rights organizations. Respondents: State or local governments; businesses or other for-profit; non-profit institutions.

Burden Information
Instrument | Number of respondents | Burden per response | Burden hours
Administrator Interview guide | 78 | 4 | 312
Consumer Focus Group | 130 | 2 | 260
Total | 208 |  | 572

OMB Desk Officer; Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW, Washington, DC 20503.

Comments may also be sent to Cynthia Agens Bauer, OS Reports Clearance Officer, Room 503H, Humphrey Building, 200 Independence Avenue SW, Washington DC, 20201. Written comments should be received within 30 days of this notice.

Dated: August 17, 2001.
Kerry Weems,
Acting Deputy Assistant Secretary, Budget.

[FR Doc. 01-21731 Filed 8-28-01; 8:45 am]

BILLING CODE 4150-29-M